INTERNATIONAL TRADE COMMISSION

[Investigation No. 332-352]

Andean Trade Preference Act: Impact on the U.S. Economy and on Andean Drug Crop Eradication

AGENCY: United States International Trade Commission.

ACTION: Correction of notice of investigation.

SUMMARY: The Commission's notice published in the Federal Register on May 15, 2012 (77 FR 28620) contained an error that incorrectly identified “September 30, 2010” as the date for transmittal to Congress of the Commission report under investigation No. 332-352, Andean Trade Preference Act: Impact on the U.S. Economy and on Andean Drug Crop Eradication, under section 206 of the Andean Trade Preference Act (19 U.S.C. 3204). The correct date for transmittal of the Commission report to Congress is September 28, 2012.

Issued: May 17, 2012.
By order of the Commission.
James R. Holbein,
Secretary to the Commission.

[FR Doc. 2012-12598 Filed 5-23-12; 8:45 am]

BILLING CODE 7020-02-P